DEPARTMENT OF VETERANS AFFAIRS

[OMB Control No. 2900-New (VA Form 0857c)]

Proposed Information Collection (Reasonable Accommodation) Activity: Comment Request

AGENCY: Office of Human Resources and Administration, Department of Veterans Affairs.

ACTION: Notice.

SUMMARY: The Office of Human Resources and Administration (HRA), Department of Veterans Affairs (VA), is announcing an opportunity for public comment on the proposed collection of certain information by the agency. Under the Paperwork Reduction Act (PRA) of 1995, Federal agencies are required to publish notice in the Federal Register concerning each proposed collection of information, including each collection of information in use without an OMB control number, and allow 60 days for public comment in response to the notice. This notice solicits comments on the information needed to determine an applicant entitlement to receive reasonable accommodation during the application or interview process.

DATES: Written comments and recommendations on the proposed collection of information should be received on or before April 12, 2010.

ADDRESSES: Submit written comments on the collection of information through the Federal Docket Management System (FDMS) at http://www.Regulations.gov; or to David Walton, Office of Human Resources Management (06), Department of Veterans Affairs, 810 Vermont Avenue, NW., Washington, DC 20420; or e-mail: david.walton@va.gov. Please refer to “OMB Control No. 2900-New (VA Form 0857c)” in any correspondence. During the comment period, comments may be viewed online through at FDMS.

FOR FURTHER INFORMATION CONTACT: David Walton at (202) 461-4002.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, HRA invites comments on: (1) Whether the proposed collection of information is necessary for the proper performance of VA's functions, including whether the information will have practical utility; (2) the accuracy of HRA's estimate of the burden of the proposed collection of information; (3) ways to enhance the quality, utility, and clarity of the information to be collected; and (4) ways to minimize the burden of the collection of information on respondents, including through the use of automated collection techniques or the use of other forms of information technology.

Titles:

a. Request for Reasonable Accommodation, VA Form 0857c.

b. Authorization for Limited Release of Medical Information, VA Form 0857e.

OMB Control Number: 2900-New (VA Form 0857c).

Type of Review: Existing collection in use without an OMB control number.

Abstract: Applicants with a disability who are seeking a position at VA complete VA Form 0857c to request reasonable accommodation such as an interpreter or adaptive equipment during the application and interview process. In order to substantiate their claim for reasonable accommodation, applicants must complete VA Form 0857e to authorize their provider to release medical information to VA. The data collected will be used to determine the applicant's entitlement to reasonable accommodation.

Affected Public: Individuals or households.

Estimated Annual Burden: 18 hours.

Estimated Average Burden Per Respondent: 30 minutes.

Frequency of Response: One-time.

Estimated Number of Respondents: 35.

Dated: February 5, 2010.
By direction of the Secretary:
Denise McLamb,
Enterprise Records Service.

[FR Doc. 2010-2922 Filed 2-9-10; 8:45 am]

BILLING CODE 8320-01-P